DEPARTMENT OF COMMERCE

Census Bureau

Proposed Information Collection; Comment Request; 2017 Economic Census of Island Areas

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 6, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Kevin Deardorff, U.S. Census Bureau, Economy Wide Statistics Division, Room 8K154, 4600 Silver Hill Road, Washington, DC 20233, telephone (301) 763-6033, or via the Internet at Kevin.E.Deardorff@census.gov.

SUPPLEMENTARY INFORMATION:

I. Abstract

The Economic Census of Island Areas, conducted under authority of Title 13, United States Code (U.S.C.), Section 131, is the primary source of facts about the structure and functioning of the U.S. economy, including Puerto Rico, Guam, the Commonwealth of the Northern Mariana Islands, the U.S. Virgin Islands, and American Samoa, collectively referred to as Island Areas. The Economic Census of Island Areas, is the primary source of facts about each of the island areas' economies. Economic Census of Island Areas statistics serve to benchmark estimates of local net income and gross domestic product, and provide essential information for government (Federal and local), businesses, and the general public.

The 2017 Economic Census of Island Areas will cover the following sectors as defined by the North American Industry Classification System (NAICS): Mining; Utilities; Construction; Manufacturing; Wholesale and Retail Trades; Transportation and Warehousing; Information; Finance and Insurance; Real Estate and Rental and Leasing; Professional, Scientific, and Technical Services; Management of Companies and Enterprises; Administrative and Support and Waste Management and Remediation Services; Educational Services; Health Care and Social Assistance; Arts, Entertainment, and Recreation; Accommodation and Food Services; and Other Services (except Public Administration). This scope is roughly equivalent to that of the stateside Economic Census. Due to concerns about the completeness of the universe for collection, the Economic Census of Island Areas does not collect data on Scheduled Air Transportation (NAICS 4811) or Business, Professional, Labor, Political, and Similar Organizations (NAICS 8139). The Economic Census of Island Areas is the only source of economic data collected for the Island Areas.

The information collected will produce statistics by kind of business on the number of establishments, sales, value of shipments, receipts, revenue, payroll, and employment. The Economic Census of Island Areas will also yield a variety of industry-specific statistics, including sales/receipts by commodity/merchandise/receipt lines, sales/value of shipments by class of customer, and number of hotel rooms. While the Economic Census of Island Areas collects the same sector level data as the Economic Census, the data published are at a less detailed NAICS level with some additional exclusions.

Data collection for the 2017 Economic Census of Island Areas will begin in January of 2018 and will closeout in October of 2018. In an effort to reduce respondent burden, processing time, and cost, the 2017 Economic Census of Island Areas is aiming to increase data collection through the use of electronic reporting tools.

II. Method of Collection

The 2017 Economic Census of Island Areas will be conducted using electronic reporting instrument procedures with a follow-up mailout of a paper questionnaire. Establishments will be selected from the Census Bureau's Business Register. The Census Bureau's Business Register provides a current and comprehensive database of U.S. business establishments and companies for statistical program use. An establishment will be included in the 2017 Economic Census of Island Areas if: (a) It is engaged in any of the sectors within the scope of the census listed above; (b) it is an active operating establishment with payroll; and (c) it is located in Puerto Rico, Guam, the Commonwealth of the Northern Mariana Islands, the U.S. Virgin Islands, or American Samoa.

III. Data

OMB Control Number: 0607-XXXX.

Questionnaire Number(s): Electronic Path ID(s): The questionnaires and paths in the electronic instrument used to collect information in the Islands Areas are tailored to specific industries or groups of industries. Puerto Rico questionnaires and electronic instruments are available in English as well as Spanish.

Questionnaire No. and electronic path ID | Island area | Trade
2101T | Puerto Rico | Utilities, Transportation, and Warehousing.
2102T | Puerto Rico | Utilidades, Transportacion y Almacenaje.
2103T | Selected U.S. Territories | Utilities, Transportation, and Warehousing.
2104T | American Samoa | Utilities, Transportation, and Warehousing.
2301T | Puerto Rico | Construction.
2302T | Puerto Rico | Industrias de Construccion.
2303T | Selected U.S. Territories | Construction.
2304T | American Samoa | Construction.
3101T | Puerto Rico | Manufacturing.
3102T | Puerto Rico | Manufactura.
3103T | Selected U.S. Territories | Manufacturing.
3104T | American Samoa | Manufacturing.
4201T | Puerto Rico | Wholesale Trade.
4202T | Puerto Rico | Comercio al Poy Mayor.
4203T | Selected U.S. Territories | Wholesale Trade.
4204T | American Samoa | Wholesale Trade.
4401T | Puerto Rico | Retail Trade.
4402T | Puerto Rico | Comercio al Detal.
4403T | Selected U.S. Territories | Retail Trade.
4404T | American Samoa | Retail Trade.
5101T | Puerto Rico | Services.
5102T | Puerto Rico | Servicios.
5103T | Selected U.S. Territories | Services.
5104T | American Samoa | Services.
5201T | Puerto Rico | Finance, Insurance, Real Estate, Rental, and Leasing.
5202T | Puerto Rico | Finanzas y Seguros, Bienes Raices, Alquiler y Arrendamiento.
5203T | Selected U.S. Territories | Finance, Insurance, Real Estate, Rental, and Leasing.
5204T | American Samoa | Finance, Insurance, Real Estate, Rental, and Leasing.
7201T | Puerto Rico | Accommodation Services.
7202T | Puerto Rico | Servicios de Alojamiento.
7203T | Selected U.S. Territories | Accommodation Services.
7204T | American Samoa | Accommodation Services.

Type of Review: Regular submission.

Affected Public: Local governments, businesses, and other for profit or nonprofit institutions or organizations.

Estimated Number of Respondents: 52,970 (Puerto Rico: 45,000; Guam: 3,400; Commonwealth of the Northern Mariana Islands: 1,400; U.S. Virgin Islands: 2,700; American Samoa: 470).

Estimated Time per Response: 1 hour.

Estimated Total Annual Burden Hours: 52,970 hours.

Estimated Total Annual Cost to Public: $0.

Respondent's Obligation: Mandatory.

Legal Authority: Title 13, U.S.C., Section 131 and 191.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 29, 2016.
Glenna Mickelson,
Management Analyst, Office of the Chief Information Officer.

[FR Doc. 2016-15786 Filed 7-1-16; 8:45 am]

BILLING CODE 3510-07-P